DEPARTMENT OF LABOR

Employment and Training Administration

Notice of Funding Opportunity and Solicitation for Grant Applications (SGA) for National Farmworker Jobs Training Program (NFJP) Housing Assistance

AGENCY: Employment and Training Administration, Labor.

ACTION: Notice of Solicitation for Grant Applications (SGA).

Funding Opportunity Number: SGA-DFA-PY-10-08.

SUMMARY: The U.S. Department of Labor (the Department or DOL), Employment and Training Administration (ETA), Office of Workforce Investment (OWI), Division of Adult Services (DAS), announces a grant competition for operating the Housing Assistance portion of the National Farmworker Jobs Program (NFJP), under section 167 of the Workforce Investment Act of 1998 (WIA), 29 U.S.C. 2912. Section 167(a) of WIA requires the Secretary to conduct a grants competition every two years for the purpose of carrying out the activities authorized under section 167. Although housing assistance is identified in WIA as one of the allowable activities under NFJP, Congressional appropriations language directs the Department to make available a specific amount of the funds appropriated for the NFJP for migrant and seasonal farmworkers housing assistance grants, and requires that no less than 70 percent of the specified amount must be used for permanent housing activities.

We are conducting this competition before the passage of the Department of Labor's Fiscal Year (FY) 2011 appropriation in anticipation of the appropriation of funds for Program Year (PY) 2011 NFJP housing assistance grants, but we will not obligate any funds for PY 2011 grants unless and until they are appropriated. The FY 2011 appropriation request for this program is $5,700,000.

The complete SGA and any subsequent SGA amendments are described in further detail on ETA's Web site at http://www.doleta.gov/grants or on http://www.grants.gov. The Web sites provide application information, eligibility requirements, review and selection procedures and other program requirements governing this solicitation.

DATES: The closing date for receipt of applications is May 3, 2011.

FOR FURTHER INFORMATION CONTACT: Eileen Banks, 200 Constitution Avenue, NW., Room N4716, Washington, DC 20210; telephone: 202-693-3403.

Signed at Washington, DC, this 11th day of March 2011.
B. Jai Johnson,
Grant Officer, Employment and Training Administration.

[FR Doc. 2011-6244 Filed 3-16-11; 8:45 am]

BILLING CODE 4510-FN-P